DEPARTMENT OF THE INTERIOR

National Park Service

Notice of Inventory Completion: Oregon State University Department of Anthropology, Corvallis, OR

AGENCY: National Park Service, Interior.

ACTION: Notice.

Notice is here given in accordance with the Native American Graves Protection and Repatriation Act (NAGPRA), 25 U.S.C. 3003, of the completion of an inventory of human remains in the control of Oregon State University Department of Anthropology, Corvallis, OR. The human remains were removed from Yakima County, WA.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by Oregon State University Department of Anthropology professional staff in consultation with representatives of the Confederated Tribes and Bands of the Yakama Nation, Washington; Confederated Tribes of the Colville Reservation, Washington; and Confederated Tribes of the Umatilla Reservation, Oregon.

On an unknown date, human remains representing a minimum of one individual were removed from Natches Heights, Yakima, Yakima County, WA. The human remains, consisting of one cranial fragment, were donated to the Department of Anthropology by Dr. T. Tillman of the Oregon State University Physical Education Department upon his retirement (UNKNO-027-0001). Dr. Tillman received the human remains from the widow of an unknown collector between 1940 and 1978. No known individual was identified. No associated funerary objects are present.

The collection records state that the individual is “Indian.” According to collection records and tribal consultation, the human remains were removed from a location in the traditional and current territory of the Confederated Tribes and Bands of the Yakama Nation, Washington.

Officials of the Oregon State University Department of Anthropology have determined that, pursuant to 25 U.S.C. 3001(9-10), the human remains described above represent the physical remains of one individual of Native American ancestry. Officials of the Oregon State University Department of Anthropology have also determined that, pursuant to 25 U.S.C. 3001(2), there is a relationship of shared group identity that can be reasonably traced between the Native American human remains and the Confederated Tribes and Bands of the Yakama Nation, Washington.

Representatives of any other Indian tribe that believes itself to be culturally affiliated with the human remains should contact Dr. David McMurray, Oregon State University Department of Anthropology, 238 Waldo Hall, Corvallis, OR 97331, telephone (541) 737-4515, before May 19, 2008. Repatriation of the human remains to the Confederated Tribes and Bands of the Yakama Nation, Washington may proceed after that date if no additional claimants come forward.

Oregon State University Department of Anthropology is responsible for notifying the Confederated Tribes and Bands of the Yakama Nation, Washington; Confederated Tribes of the Colville Reservation, Washington; and Confederated Tribes of the Umatilla Reservation, Oregon that this notice has been published.

Dated: March 18, 2008.
Sherry Hutt,
Manager, National NAGPRA Program.

[FR Doc. E8-8315 Filed 4-16-08; 8:45 am]

BILLING CODE 4312-50-S